DEPARTMENT OF ENERGY

Federal Energy Regulatory Commission

Docket No. CP00-137-000

Reliant Energy Gas Transmission Company; Notice of Application

April 5, 2000.

Take notice that on March 27, 2000, Reliant Energy Gas Transmission Company (REGT), 1111 Louisiana Street, Houston, Texas 77210, filed in Docket No. CP00-137-000 an application pursuant to section 7(c) of the Natural Gas Act and part 157 of the Federal Energy Regulatory Commission's (Commission) Regulations for a certificate of public convenience and necessity authorizing REGT to construct certain facilities in Hot Spring County, Arkansas to reconfigure its system to enable deliveries to be diverted from its Line AC to other portions of its system in Arkansas, all as more fully set forth in the application which is on file with the Commission and open to public inspection. This filing may be viewed on the Internet at http://www.ferc.fed.us/online/rims.htm (call 202-208-2222 for assistance).

Specifically, REGT proposes to construct: (1) Approximately 2.2 miles of 20-inch pipeline, to be designated as Line ACT-4 and paralleling its Line AC; (2) one 20-inch main line valve with bypass on its Line S-3-S; and (3) one 20-inch mainline valve between Line S-3-S and its Line T at the existing Perla Junction. REGT states that the proposed facilities will allow up to 158,500 Dth/d of natural gas to be diverted from Line AC into Line T and other portions of REGT's system in Arkansas. Total cost is estimated to be $1.5 million, for which REGT requests rolled-in rate treatment.

REGT has executed a firm transportation contract with Pine Bluff Energy LLC (Pine Bluff), for no less than 10 years, with a contract demand of 40,000 Dth/d. Pine Bluff is currently constructing an electric power cogeneration plant adjacent to facilities owned by International Paper in Jefferson County, Arkansas. Pine Bluff is said to have leased capacity in International Paper's existing plant line. Upon completion of Pine Bluff's power plant, REGT, under its blanket authority, will install a delivery tap on REGT's Line T, in Grant County, Arkansas, to provide transportation service to Pine Bluff.

Pine Bluff has requested that firm service commence by October 1, 2000, and REGT request that Commission authorization be granted no later than July 31, 2000.

Any question regarding this amendment should be directed to Kevin P. Erwin, Senior Counsel, Reliant Energy Gas Transmission Company, P.O. Box 61867, Houston, Texas 77208-1867, at (713) 207-5232.

Any person desiring to be heard or to make any protest with reference to said application should on or before April 26, 2000, file with the Federal Energy Regulatory Commission, 888 First Street, N.E., Washington, DC 20426, a motion to intervene or a protest in accordance with the requirements of the Commission's Rules of Practice and Procedure (18 CFR 385.211 and 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party in any proceeding herein must file a motion to intervene in accordance with the Commission's rules.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A persons does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a Federal court.

The Commission will consider all comments and concerns equally, whether filed by commenters or those requesting intervenor status.

Take further notice that, pursuant to the authority contained in and subject to the jurisdiction conferred upon the Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that formal hearing is required, further notice of such hearing will be duly given.

Under the procedure herein provided for, unless otherwise advised, it will be unnecessary for REGT to appear or to be represented at the hearing.

Linwood A. Watson, Jr.,
Acting Secretary.

[FR Doc. 00-8899 Filed 4-10-00; 8:45 am]

BILLING CODE 6717-01-M